DEPARTMENT OF TRANSPORTATION

Pipeline and Hazardous Materials Safety Administration

[Docket No. PHMSA-2015-0139]

Pipeline Safety: Risk Modeling Methodologies Public Workshop

AGENCY: Pipeline and Hazardous Materials Safety Administration, DOT.

ACTION: Call for abstracts; preliminary notice of public workshop.

SUMMARY: This preliminary notice is to announce a public workshop to advance risk modeling methodologies of gas transmission and hazardous liquid pipelines and non-pipeline systems. This workshop will bring industry, Federal and state regulators, interested members of the public, and other stakeholders together to share knowledge and experience on risk modelling within the pipeline industry and other fields, ways to advance pipeline risk models, and practical ways that operators can adopt and/or adapt them to the analyses of their systems.

Additionally, through this notice, and in preparation for this public meeting, we are inviting abstracts on relevant engineering and technical modeling considerations related to advancing pipeline risk models, and risk modeling methodologies used in other non-pipeline applications. PHMSA recognizes that other industries may offer potential ideas and solutions to risk modelling that are applicable to pipelines and therefore encourages participation in the solicitation from outside of the pipeline industry and outside of industrial applications. Each author of an accepted abstract will be invited to make a short presentation at the workshop.

DATES: The public workshop will be held on Wednesday, September 9, 2015, and Thursday, September 10, 2015, times TBD. To be considered for presentation at the upcoming workshop, authors must submit abstracts to the docket PHMSA-2015-0139 and email Kenneth Lee at Kenneth.lee@dot.gov by July 15, 2015.

ADDRESSES: Washington, DC Metro area—venue TBD.

Comments: To be considered for presentation at the upcoming workshop, authors must submit abstracts to the docket PHMSA-2015-0139 and email Kenneth Lee at Kenneth.lee@dot.gov by July 15, 2015. PHMSA will notify authors by email by July 31, 2015, whether their abstracts were accepted for presentation. Each author of an accepted abstract will be invited to make a short presentation at the workshop.

Members of the public may also submit written comments either before or after the workshop. Comments should reference Docket No. PHMSA-2015-0139. Comments may be submitted in the following ways:

• E-Gov Web site: http://www.regulations.gov. This site allows the public to enter comments on any Federal Register notice issued by any agency. Follow the instructions for submitting comments.

• Fax: 1-202-493-2251.

• Mail: Docket Management System, U.S. Department of Transportation (DOT), 1200 New Jersey Avenue SE., Room W12-140, Washington, DC 20590.

Hand Delivery: DOT Docket Management System, Room W12-140, on the ground floor of the West Building, 1200 New Jersey Avenue SE., Washington, DC between 9:00 a.m. and 5:00 p.m., Monday through Friday, except Federal holidays.

Instructions: Identify the docket number at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided. Please see the Privacy Act Statement heading below for additional information.

Privacy Act Statement

Anyone may search the electronic form of all comments received for any of our dockets. You may review DOT's complete Privacy Act Statement in the Federal Register published April 11, 2000, (65 FR 19476).

Information on Services for Individuals With Disabilities

For information on facilities or services for individuals with disabilities, or to request special assistance at the meeting, please contact Mr. Kenneth Lee, Director, Engineering and Research Division, at (202) 366-2694 or Kenneth.lee@dot.gov.

FOR FURTHER INFORMATION CONTACT: Kenneth Lee, Director, Engineering and Research Division, at 202-366-2694 or Kenneth.lee@dot.gov about the subject matter in this notice and for abstract submittal.

SUPPLEMENTARY INFORMATION:

Introduction

An integral part of requirements to manage the integrity of pipeline systems (49 CFR part 192, subpart O; 49 CFR 195.452) is the continual examination of ways to reduce the threats to pipelines in order to minimize the likelihood of a release, and ways to reduce the consequences of potential releases. A primary tool to implement this process is generally referred to as a “risk analysis” or “risk assessment.”

To support integrity management requirements, a risk analysis modeling approach must be able to adequately characterize all pipeline integrity threats and consequences concurrently, and the impact of measures to reduce risk must be evaluated.

This workshop will focus on advancing risk modeling approaches by looking at risk modelling methodologies for pipeline and non-pipeline systems, and practical ways that operators can adopt and/or adapt them to the analyses of their systems.

Background

Subsequent to implementation of the integrity management rules, industry has adopted a variety of approaches to risk analysis. Many of these approaches are variations of the “risk index” models.

While index models and other basic approaches to risk modeling have been implemented by industry for purposes such as risk-ranking pipeline segments to prioritize initial integrity management-required baseline assessments, the ability of many of these approaches to do more investigative oriented analyses in order to identify specific ways to reduce risk is limited.

As summarized and discussed in past public forums and workshops on pipeline safety (e.g., 2014 Government/Industry Pipeline R&D Forum), industry and PHMSA are in general agreement that risk models need to evolve in such a way as to be more investigative in nature.

PHMSA believes that improving risk models is important for further reducing the risk of pipelines to the public health and safety. In particular, PHMSA is interested in specific ways to advance pipeline risk models, and in practical ways that operators can adopt and/or adapt risk models to the analyses of their systems.

Call for Abstracts

We invite abstracts which present ways to advance pipeline risk models, risk modeling methodologies used in other non-pipeline applications, and practical ways that operators can adopt and/or adapt them to the analyses of their systems.

Specific examples of applications are encouraged. PHMSA is interested in engineering and technical modeling considerations including, but not limited to:

• Quantitative and semi-quantitative risk approaches.

• Interacting integrity threats.

• Applicability to evaluating preventive measures and mitigative measures.

• Availability of data to support identified risk modeling approach.

• Risk models.

• Approaches to pipeline facility risk.

• Investigative performance of the example potential approach.

• Adaptation of model approaches from non-pipeline systems.

• Cost.

Authority: 49 U.S.C. Chapter 601 and 49 CFR 1.97.

Issued in Washington, DC, on June 26, 2015.
Jeffrey D. Wiese,
Associate Administrator for Pipeline Safety.

[FR Doc. 2015-16265 Filed 7-1-15; 8:45 am]

BILLING CODE 4910-60-P